NATIONAL AERONAUTICS AND SPACE ADMINISTRATION

[Notice (12-072)]

NASA Advisory Council; Science Committee; Earth Science Subcommittee; Applied Sciences Advisory Group Meeting

AGENCY: National Aeronautics and Space Administration.

ACTION: Notice of meeting.

SUMMARY: In accordance with the Federal Advisory Committee Act, as amended, the National Aeronautics and Space Administration (NASA) announces a meeting of the Applied Science Advisory Group. This Subcommittee reports to the Earth Science Subcommittee Committee of the NASA Advisory Council. The Meeting will be held for the purpose of soliciting from the scientific community and other person's scientific and technical information relevant to program planning.

DATES: Tuesday October 9, 8:30 a.m. to 5 p.m., and Wednesday, October 10, 2012, 8:30 a.m. to 3 p.m. EDT.

ADDRESSES: NASA Headquarters, 300 E Street SW., Room 9H40, Washington, DC 20546.

FOR FURTHER INFORMATION CONTACT: Mr. Peter Meister, Science Mission Directorate, NASA Headquarters, Washington, DC 20546, (202) 358-1557, fax (202) 358-4118, or peter.g.meister@nasa.gov.

SUPPLEMENTARY INFORMATION: The meeting will be open to the public up to the capacity of the room. The agenda for the meeting includes the following topics:

—Applied Sciences Program Update

—Earth Science Data Latency Study Preliminary Update

—Capacity Building Assessment Report and Discussion

It is imperative that the meeting be held on these dates to accommodate the scheduling priorities of the key participants. Attendees will be requested to sign a register and to comply with NASA security requirements, including the presentation of a valid picture ID to Security before access to NASA Headquarters. Foreign nationals attending this meeting will be required to provide a copy of their passport and visa in addition to providing the following information no less than 10 working days prior to the meeting: full name; gender; date/place of birth; citizenship; visa information (number, type, expiration date); passport information (number, country, expiration date); employer/affiliation information (name of institution, address, country, telephone); title/position of attendee; and home address to Peter Meister via email at peter.g.meister@nasa.gov. U.S. citizens and green card holders are requested to submit their name and affiliation 3 working days prior to the meeting to Peter Meister.

Susan M. Burch,
Acting, Advisory Committee Management Officer, National Aeronautics and Space Administration.

[FR Doc. 2012-22336 Filed 9-10-12; 8:45 am]

BILLING CODE 7510-13-P